DEPARTMENT OF COMMERCE

International Trade Administration

[A-580-810, A-583-815]

Continuation of Antidumping Duty Orders: Certain Welded Stainless Steel Pipe from South Korea and Taiwan

AGENCY: Import Administration, International Trade Administration, Department of Commerce.

ACTION: Notice of Continuation of Antidumping Duty Orders: Certain Welded Stainless Steel Pipe from South Korea and Taiwan.

SUMMARY: On February 4, 2000, the Department of Commerce (“the Department”), pursuant to sections 751(c) and 752 of the Tariff Act of 1930, as amended (“the Act”), determined that revocation of the antidumping duty orders on certain welded stainless steel pipe from South Korea and Taiwan is likely to lead to continuation or recurrence of dumping. See 65 FR 5607 (February 4, 2000).

On October 2, 2000, the International Trade Commission (“the Commission”), pursuant to section 751(c) of the Act, determined that revocation of the antidumping duty orders on certain welded stainless steel pipe from South Korea and Taiwan would be likely to lead to continuation or recurrence of material injury to an industry in the United States within a reasonably foreseeable time. See 65 FR 58806 (October 2, 2000). Therefore, pursuant to 19 CFR 351.218(f)(4), the Department is publishing notice of continuation of the antidumping duty orders on certain welded stainless steel pipe from South Korea and Taiwan.

EFFECTIVE DATE: Effective Date of Continuation: October 16, 2000.

FOR FURTHER INFORMATION CONTACT: Martha V. Douthit or James P. Maeder, Office of Policy for Import Administration, International Trade Administration, U.S. Department of Commerce, 14th Street and Constitution Ave., NW, Washington, DC 20230; telephone: (202) 482-5050 or (202) 482-3330, respectively.

SUPPLEMENTARY INFORMATION:

Background

On July 1, 1999, the Department initiated, and the Commission instituted, sunset reviews (64 FR 35588 and 64 FR 35694) of the antidumping duty orders on certain welded stainless steel pipe from South Korea and Taiwan pursuant to section 751(c) of the Act. As a result of its reviews, the Department found on February 4, 2000, that revocation of the antidumping duty orders on certain welded stainless steel pipe from South Korea and Taiwan would likely lead to continuation or recurrence of dumping and notified the Commission of the magnitude of the margins likely to prevail were the orders revoked. See 65 FR 5607 (February 4, 2000).

On October 2, 2000, the Commission determined, pursuant to section 751(c) of the Act, that revocation of the antidumping duty orders on certain welded stainless steel pipe from South Korea and Taiwan would be likely to lead to continuation or recurrence of material injury to an industry in the United States within a reasonably foreseeable time. See Certain Welded Stainless Steel Pipe from Korea and Taiwan, 65 FR 58806 (October 2, 2000) and USITC Publication 3351, Investigation Nos. 731-TA-540 and 541 (Review) (October 2000).

Scope of the Orders

The merchandise subject to these orders are certain welded austenitic stainless steel pipe that meets the standards and specifications set forth by the American Society for Testing and Materials (“ASTM”) for the welded form of chromium-nickel pipe designated ASTM A-312. The merchandise covered by the scope of these orders also includes austenitic welded stainless steel made according to the standards of other nations which are comparable to ASTM A-312. Pipes are produced by forming stainless steel flat-rolled products into a tubular configuration and welding along the seam. Pipes are a commodity product generally used as a conduit to transmit liquids or gases. Major applications for pipes include, but are not limited to, digester lines, blow lines, pharmaceutical lines, petrochemical stock lines, brewery process and transport lines, general food processing lines, automotive paint lines, and paper process machines. Imports are currently classifiable under the following Harmonized Tariff Schedule of the United States (“HTSUS”) subheadings: 7306.40.5005, 7306.40.5015, 7306.40.5040, 7306.40.5065, and 7306.40.5085. Although these subheadings include both pipes and tubes, the scope of these orders is limited to welded austenitic stainless steel. Although the HTSUS subheadings are provided for convenience and Customs purposes, our written description of the scope of these orders are dispositive.

Determination

As a result of the determination by the Department and the Commission that revocation of the antidumping duty orders on certain welded stainless steel pipe from South Korea and Taiwan would be likely to lead to continuation or recurrence of dumping and material injury to an industry in the United States, pursuant to section 751(d)(2) of the Act and 19 CFR 351.222(i)(1), the Department hereby orders the continuation of the antidumping duty orders on certain welded stainless steel pipe from South Korea and Taiwan. The Department will instruct the Customs Service to continue to collect antidumping duty deposits at the rates in effect at the time of entry for all imports of subject merchandise. The effective date of continuation of these orders will be the date of publication in the Federal Register of this notice. Pursuant to section 751(c)(2) and 751(c)(6) of the Act, the Department intends to initiate the next five-year review of the orders on certain welded stainless steel pipe from South Korea and Taiwan not later than September 2005.

Dated: October 10, 2000.
Troy H. Cribb,
Acting Assistant Secretary for Import Administration.

[FR Doc. 00-26519 Filed 10-13-00; 8:45 am]

BILLING CODE 3510-DS-M